ENVIRONMENTAL PROTECTION AGENCY

[FRL-10759-01-OMS]

Request for Nominations to EPA's National and Governmental Advisory Committees

AGENCY: Environmental Protection Agency (EPA).

ACTION: Notice of request for nominations.

SUMMARY: The U.S. Environmental Protection Agency (EPA) invites nominations from a diverse range of qualified candidates to be considered for approximately 12 vacancies in the National Advisory Committee (NAC) and the Governmental Advisory Committee (GAC) which advises the U.S. Representative to the Commission for Environmental Cooperation (CEC). Vacancies on these two committees are expected to be filled by the fall of 2023. Additional sources may be utilized in the solicitation of nominees.

DATES: Please submit nominations by May 19, 2023.

ADDRESSES: Submit nominations via email to: Oscar Carrillo, Designated Federal Officer, Office of Resources and Business Operations, Federal Advisory Committee Management Division, U.S. Environmental Protection Agency with subject line COMMITTEE RESUME/CV 2023 to carrillo.oscar@epa.gov.

FOR FURTHER INFORMATION CONTACT: For information on the NAC or GAC membership, please contact Oscar Carrillo, Designated Federal Officer, by telephone at (202) 564-0347 or by email at carrillo.oscar@epa.gov.

SUPPLEMENTARY INFORMATION: The National Advisory Committee and the Governmental Advisory Committee advise the EPA Administrator in his capacity as the U.S. Representative to the Commission for Environmental Cooperation (CEC) on the development of U.S. policy positions regarding environment and trade in North America. The NAC and GAC were established May 13, 1994 and are authorized under Article 11 of the Environmental Cooperation Agreement (ECA) between the United States, Mexico and Canada entered into force on July 1, 2020, in parallel with the United States of America, United States of Mexico, and Canada (USMCA) trade agreement; and was established pursuant to Executive Order 12915, entitled “Federal Implementation of the North American Agreement on Environmental Cooperation.” The NAC and GAC were continued under the authority of Executive Order 14048, dated September 30, 2021, and operates under the provisions of the Federal Advisory Committee Act (FACA), 5 U.S.C. 10.

The committees are responsible for providing advice to the United States Representative on a wide range of strategic, scientific, technological, regulatory, and economic issues related to implementation and further elaboration of the ECA and the USMCA. The NAC consists of 15 representatives from environmental non-profit groups, business and industry, and educational institutions. The GAC consists of 15 representatives from state, local, and tribal governments. Members are appointed by the EPA Administrator for a two-year term. The committees usually meet three times per year and the average workload for committee members is approximately 10 to 15 hours per month. Members serve on the committees in a voluntary capacity. Although EPA is unable to provide compensation or an honorarium for services, members may receive travel and per diem allowances, according to applicable federal travel regulations and EPA's budget. EPA is seeking nominations from various sectors, i.e., for the NAC we are seeking nominees from academia, business and industry, and nongovernmental organizations; for the GAC we are seeking nominees from state, local and tribal government sectors. Nominees will be considered according to the mandates of FACA, which requires committees to support diversity across a broad range of constituencies, sectors, and groups. In accordance with Executive Order 14035 (June 25, 2021) and consistent with law, EPA values and welcomes opportunities to increase diversity, equity, inclusion, and accessibility on its federal advisory committees. EPA's federal advisory committees strive to have a workforce that reflects the diversity of the American people. Additional information about the NAC and GAC is available at https://www.epa.gov/faca/nac-gac.

Selection Criteria: The following criteria will be used to evaluate nominees:

• Professional knowledge of the subjects examined by the committees, including trade & environment issues, the USMCA and ECA, and the CEC

• Represent a sector or group involved in trilateral environmental policy issues

• Senior-level experience in the sectors represented on both committees

• Demonstrated ability to work in a consensus building process with a wide range of representatives from diverse constituencies

How to Submit Nominations: Any interested person or organization may nominate qualified persons to be considered for appointment to these advisory committees. Individuals may self-nominate.

• Nominations must include: (1) a statement of interest, (2) resume or curriculum vitae (CV) and (3) a short biography describing the professional and educational qualifications of the nominee, as well as the nominee's current business address, email address, and daytime telephone number. The statement of interest should describe how your background, knowledge, and experience would add value to the committee's work, and how your qualifications would contribute to the overall diversity of the NAC or GAC. To help the Agency in evaluating the effectiveness of its outreach efforts, please include in the statement of interest how you learned of this opportunity.

• Candidates from the academic sector must also provide a letter of support authorizing the nominee to represent their institution.

• Federal registered lobbyists are not permitted to serve on federal advisory committees.

• Please be aware that EPA's policy is that, unless otherwise prescribed by statute, members generally are appointed for a two-year term. Anyone interested in being considered for nomination should submit their application materials by May 19, 2023.

Oscar Carrillo,
Program Analyst.

[FR Doc. 2023-06001 Filed 3-22-23; 8:45 am]

BILLING CODE 6560-50-P